DEPARTMENT OF TRANSPORTATION

Federal Railroad Administration

Notification of Petitions for Approval; Processor-Based Signal and Train Control Systems

In accordance with 49 Code of Federal Regulations (CFR) 236.913(e)(1), notice is hereby given that the Federal Railroad Administration (FRA) has received a petition for approval of a Product Safety Plan (PSP) submitted pursuant to 49 CFR part 236, subpart H. Although not required, FRA is providing notice that it has also received petitions for approval of three Railroad Safety Program Plans (RSPP) submitted pursuant to 49 CFR part 236, subpart H. The individual petitions are described below, including the party seeking approval, the requisite docket numbers, and a brief summary of the petition where required. FRA will only accept comments on the petition for approval for the Product Safety Plan, as required by 49 CFR 236.913(e)(2).

PSP

BNSF Railway Company (BNSF)

Docket Number FRA 2006-23687 (Other Docket Numbers that may contain relevant information: FRA 2006-23686 and FRA 2003-15432).

BNSF submitted a petition for approval of a PSP for its Electronic Train Management System (ETMS). BNSF asserts that the PSP demonstrates that ETMS has been designed in a safe manner and that it supports BNSF's assessment that railroad operations with ETMS are as safe, or safer, than railroad operations without ETMS. The PSP provides descriptions of: The ETMS itself; ETMS safety process and analyses; validation and verification processes used during development of ETMS; and operational and support requirements and procedures.

Interested parties are invited to participate in this safety review by providing written information or comments pertinent to FRA's consideration of the above petition for approval of a Product Safety Plan. All communications concerning this safety review should identify the appropriate docket number (e.g., Petition for Approval Docket Number FRA-2006-23687) and must be submitted to the Docket Clerk, DOT Central Docket Management Facility, Room PL-401, Washington, DC 20590-0001. Communication received within 90 days of the date of this notice will be considered by FRA to the extent practicable. All written communications concerning this safety review are available for examination during regular business hours (9 a.m.-5 p.m.) at the above facility. All documents in the public docket are also available for inspection and copying on the Internet at the docket facility's Web site at http://dms.dot.gov.

Anyone is able to search the electronic form of all the comments received into any of our dockets by the name of the individual submitting the comment (or signing the comment on behalf of an association, business, labor union, etc.). You may review DOT's complete Privacy Act Statement in the Federal Register published on April 11, 2000 (Volume 65, Number 70; Pages 19477-78). The Statement may also be found at http://dms.dot.gov.

RSPPs

BNSF

Docket Number FRA-2006-23686 (Other Docket Numbers that may contain relevant information: FRA 2006-23687 and FRA 2006-FRA 2003-15432).

BNSF submitted a petition for approval of an RSPP. The petition, the RSPP, and any related documents have been placed in the requisite docket and are available for public inspection.

CSX Transportation, Inc. (CSX)

Docket Number FRA 2006-23685 (Other Docket Numbers that may contain relevant information: FRA).

CSX submitted a petition for approval of an RSPP. The petition, the RSPP, and any related documents have been placed in the requisite docket and are available for public inspection.

Union Pacific Railroad (UP)

Docket Number FRA 2006-24002 (Other Docket Numbers that may contain relevant information: FRA).

UP submitted a petition for approval of an RSPP. The petition, the RSPP, and any related documents have been placed in the requisite docket and are available for public inspection.

Issued in Washington, DC on February 23, 2006.
Grady C. Cothen, Jr.,
Deputy Associate Administrator for Safety Standards and Program Development.

[FR Doc. E6-3071 Filed 3-2-06; 8:45 am]

BILLING CODE 4910-06-P